DEPARTMENT OF THE TREASURY

Office of Foreign Assets Control

31 CFR Parts 525, 546, and 589

Adding a General License to Burma Sanctions Regulations and Correcting References in Sudan Stabilization and Ukraine-/Russia-Related Sanctions Regulations

AGENCY: Office of Foreign Assets Control, Treasury.

ACTION: Final rule.

SUMMARY: The Department of the Treasury's Office of Foreign Assets Control (OFAC) is adopting a final rule to add a general license, update language and authorities, and correct a cross-reference in existing regulations.

DATES: This rule is effective August 21, 2024.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

In this document, OFAC is updating three parts of 31 CFR chapter V to add a general license, to update language, and to correct an erroneous reference. In the Burma Sanctions Regulations, 31 CFR part 525, OFAC is updating the authorities section to add a reference to recent legislation and adding a general license at § 525.512 to authorize the provision of agricultural commodities, medicine, medical devices, replacement parts and components for medical devices, or software updates for medical devices to individuals whose property and interests in property are blocked pursuant to the Burma Sanctions Regulations.

In the Sudan Stabilization Sanctions Regulations, 31 CFR part 546, OFAC is updating three instances of the term “the Office of Foreign Assets Control” or “the Director of the Office of Foreign Assets Control” with the acronym “OFAC” in sections § 546.202(d), § 546.203(e), and § 546.703. Finally, in the Ukraine-/Russia-Related Sanctions Regulations, 31 CFR part 589, OFAC is updating the authorities section to reference two Executive orders issued pursuant to the national emergency declared in Executive Order 13660, “Blocking Property of Certain Persons Contributing to the Situation in Ukraine” (79 FR 13493), and correcting an erroneous cross-reference appearing in § 589.520.

Public Participation

Because the amendment of the Regulations is a rule of agency procedure and because it involves a foreign affairs function, the provisions of Executive Order 12866 of September 30, 1993, “Regulatory Planning and Review” (58 FR 51735, October 4, 1993), as amended, and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the regulations being amended in this rule are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Parts 525, 546, and 589

Administrative practice and procedure, Banks, banking, Blocking of assets, Burma, Credit, Foreign trade, Penalties, Reporting and recordkeeping requirements, Russian Federation, Sanctions, Securities, Services, Sudan, Ukraine.

For the reasons set forth in the preamble, OFAC is issuing the following amendments:

PART 525—BURMA SANCTIONS REGULATIONS

1. The authority citation for part 525 is revised to read as follows:

Authority: 3 U.S.C. 301; 31 U.S.C. 321(b); 22 U.S.C. 10201-10261; 50 U.S.C. 1601-1651, 1701-1706; Pub. L. 101-410, 104 Stat. 890, as amended (28 U.S.C. 2461 note); E.O. 14014, 86 FR 9429, 3 CFR, 2021 Comp., p. 514.

Subpart E—Licenses, Authorizations, and Statements of Licensing Policy

2. Add § 525.512 to read as follows:

§ 525.512 Transactions related to the provision of agricultural commodities, medicine, medical devices, replacement parts and components, or software updates for personal, non-commercial use.

(a) All transactions prohibited by this part that are related to the provision, directly or indirectly, of agricultural commodities, medicine, medical devices, replacement parts and components for medical devices, or software updates for medical devices to an individual whose property and interests in property are blocked pursuant to this part are authorized, provided the items are in quantities consistent with personal, non-commercial use.

(b) For the purposes of this section, agricultural commodities, medicine, and medical devices are defined as follows:

(1) Agricultural commodities. For the purposes of this section, agricultural commodities are:

(i) Products that fall within the term “agricultural commodity” as defined in section 102 of the Agricultural Trade Act of 1978 (7 U.S.C. 5602); and

(ii) That are intended for ultimate use as:

(A) Food for humans (including raw, processed, and packaged foods; live animals; vitamins and minerals; food additives or supplements; and bottled drinking water) or animals (including animal feeds);

(B) Seeds for food crops;

(C) Fertilizers or organic fertilizers; or

(D) Reproductive materials (such as live animals, fertilized eggs, embryos, and semen) for the production of food animals.

(2) Medicine. For the purposes of this section, medicine is an item that falls within the definition of the term “drug” in section 201 of the Federal Food, Drug, and Cosmetic Act (21 U.S.C. 321).

(3) Medical devices. For the purposes of this section, a medical device is an item that falls within the definition of “device” in section 201 of the Federal Food, Drug, and Cosmetic Act (21 U.S.C. 321).

Note 1 to § 525.512. This section does not relieve any person authorized thereunder from complying with any other applicable laws or regulations.

PART 546—SUDAN STABILIZATION SANCTIONS REGULATIONS

3. The authority citation for part 546 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13067, 62 FR 59989, 3 CFR, 1997 Comp., p. 230; E.O. 13400, 71 FR 25483, 3 CFR, 2006 Comp., p. 220; E.O. 14098, 88 FR 29529.

Subpart B—Prohibitions

§ 546.202 [Amended]

4. Amend § 546.202 in the introductory text of paragraph (d) by removing “the Director of the Office of Foreign Assets Control” and adding in its place “OFAC”.

§ 546.203 [Amended]

5. Amend § 546.203 in paragraph (e) by removing “the Office of Foreign Assets Control” and adding in its place “OFAC”.

§ 546.703 [Amended]

6. Amend § 546.703 by removing “the Office of Foreign Assets Control” and adding in its place “OFAC”.

PART 589—UKRAINE-/RUSSIA-RELATED SANCTIONS REGULATIONS

7. The authority citation for part 589 is revised to read as follows:

Authority: 3 U.S.C. 301; 22 U.S.C. 8901-8910, 8921-8930; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13660, 79 FR 13493, 3 CFR, 2014 Comp., p. 226; E.O. 13661, 79 FR 15535, 3 CFR, 2014 Comp., p. 229; E.O. 13662, 79 FR 16169, 3 CFR, 2014 Comp., p. 233; E.O. 13685, 79 FR 77357, 3 CFR, 2014 Comp., p. 313., E.O. 13849, 3 CFR, 2018 Comp., p. 875, E.O. 14065, 87 FR 10293, 3 CFR, 2022 Comp., p. 340.

Subpart E—Licenses, Authorizations, and Statements of Licensing Policy

§ 589.520 [Amended]

8. Amend § 589.520 in the introductory text by removing “589.206” and adding in its place “589.207”.

Lisa M. Palluconi,
Acting Director, Office of Foreign Assets Control.

[FR Doc. 2024-18747 Filed 8-20-24; 8:45 am]

BILLING CODE 4810-AL-P